ENVIRONMENTAL PROTECTION AGENCY

[OPP-2003-0358; FRL-7334-7]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials took place during the period April 1, 2003 to September 30, 2003 to control unforseen pest outbreaks.

FOR FURTHER INFORMATION CONTACT: See each emergency exemption or denial for the name of a contact person. The following information applies to all contact persons: Team Leader, Emergency Response Team, Registration Division (7505C), Office of Pesticide Programs, Environmental Protection Agency, 1200 Pennsylvania Ave., NW., Washington, DC 20460-0001; telephone number: (703) 308-9366.

SUPPLEMENTARY INFORMATION: EPA has granted or denied emergency exemptions to the following State and Federal Agencies. The emergency exemptions may take the following form: Crisis, public health, quarantine, or specific. EPA has also listed denied emergency exemption requests in this notice.

I. General Information

A. Does this Action Apply to Me?

You may be potentially affected by this action if you are a Federal or State government agency involved in administration of environmental quality programs (i.e., Departments of Agriculture, Environment, etc.). Potentially affected entities may include, but are not limited to:

• Federal or State Government Entity, (NAICS 9241), i.e., Department of Agriculture, Environment, etc.

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of this Document and Other Related Information?

1. Docket. EPA has established an official public docket for this action under docket identification (ID) number OPP-2003-0358. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Background

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, and the duration of the exemption. EPA also gives the Federal Register citation for the time-limited tolerance, if any.

III. Emergency Exemptions and Denials

A. U.S. States and Territories

Alabama

Department of Agriculture and Industries

Specific. EPA authorized the use of diuron on catfish to control algae; June 1, 2003 to November 1, 2003. Contact: (Libby Pemberton).

Arkansas

State Plant Board

Crisis. On May 2, 2003, for the use of fomesafen on snap beans to control broad leaf weeds. This program ended on May 9, 2003. Contact: (Andrea Conrath).

On May 29, 2003, for the use of sodium chlorate on wheat to control weeds. This program ended on June 12, 2003. Contact: (Libby Pemberton.)

Denial. On August 26, 2003 EPA denied the use of flumioxazin on cotton to control broad leaf weeds. This request was denied because the criteria for an emergency situation were not met. Contact: (Libby Pemberton).

Specific. EPA authorized the use of diuron on catfish to control algae; April 4, 2003 to November 30, 2003. Contact: (Libby Pemberton.)

EPA authorized the use of fomesafen on snap beans to control broad leaf weeds; May 9, 2003 to September 15, 2003. Contact: (Andrea Conrath).

EPA authorized the use of methoxyfenozide on soybeans to control armyworms; August 13, 2003 to October 30, 2003. Contact: (Dan Rosenblatt)

California

Environmental Protection Agency, Department of Pesticide Regulation.

Crisis. On April 3, 2003, for the use of oxytetracycline on apples to control fire blight. This program ended on August 1, 2003. Contact: (Andrea Conrath).

Specific. EPA authorized the use of tebuconazole on garlic to control garlic rust; April 16, 2003 to July 3, 2003. Contact: (Andrea Conrath).

EPA authorized the use of imidacloprid on garden beets to control aphids; April 18, 2003 to March 1, 2004. Contact: (Andrew Ertman).

EPA authorized the use of myclobutanil on peppers (bell and non-bell) to control powdery mildew; June 25, 2003 to May 31, 2004. Contact: (Barbara Madden).

EPA authorized the use of avermectin on basil to control leafminers; July 1, 2003 to October 31, 2003. Contact: (Barbara Madden).

EPA authorized the use of fludioxonil on pomegranates to control gray mold; August 1, 2003 to December 15, 2003. Contact: (Andrew Ertman).

EPA authorized the use of myclobutanil on artichokes to control powdery mildew; August 18, 2003 to August 17, 2004. Contact: (Barbara Madden).

EPA authorized the use of thiophanate methyl on mushroom spawn to control green mold; September 11, 2003 to September 10, 2004. Contact: (Andrea Conrath).

EPA authorized the use of tebufenozide on garden beets to control armyworms; September 15, 2003 to September 10, 2004. Contact: (Stacey Groce).

EPA authorized the use of imidacloprid on almonds to control the glassy-winged sharpshooter; September 16, 2003 to June 22, 2004. Contact: (Andrew Ertman).

EPA authorized the use of imidacloprid on blueberries to control the glassy-winged sharpshooter; September 16, 2003 to December 31, 2003. Contact: (Andrew Ertman).

EPA authorized the use of fenhexamid on kiwifruit to control gray mold; September 23, 2003 to December 1, 2003. Contact: (Stacey Groce)

Colorado

Department of Agriculture

Crisis. On February 18, 2003, for the use of lambda-cyhalothrin on alfalfa/grass mixed stands, pasture land and range land, and grass grown for seed to control army cutworms. This program ended on June 15, 2003. Contact: (Andrew Ertman).

Specific. EPA authorized the use of tetraconazole on sugarbeets to control cercospora; April 28, 2003 to September 30, 2003. Contact: (Andrea Conrath).

Connecticut

Department of Environmental Protection

Specific. EPA authorized the use of triazamate on Christmas trees to control root aphids; April 4, 2003 to September 30, 2003. Contact: (Barbara Madden).

EPA authorized the use of propiconazole on blueberries to control mummy berry disease; May 2, 2003 to June 30, 2003. Contact: (Andrea Conrath).

EPA authorized the use of azoxystrobin on tobacco to control blue mold; May 27, 2003 to December 12 2003. Contact: (Libby Pemberton).

EPA authorized the use of thymol and eucalyptus oil on beehives to control varroa mites; August 27, 2003 to December 31, 2003. Contact: (Stacey Groce).

Delaware

Department of Agriculture

Specific. EPA authorized the use of imidacloprid on peaches, nectarines, plums and apricots to control aphids; April 2, 2003 to October 15, 2003. Contact: (Andrew Ertman).

EPA authorized the use of terbacil on watermelons to control annual broad leaf weeds; April 28, 2003 to June 15, 2003. Contact: (Barbara Madden).

EPA authorized the use of fomesafen on snap beans to control broad leaf weeds; May 9, 2003 to October 1, 2003. Contact: (Andrea Conrath).

Florida

Department of Agriculture and Consumer Services

Specific. EPA authorized the use of thiophanate methyl on fruiting vegetables to control white mold (sclerotinia sclerotiorum); July 2, 2003 to March 31, 2004. Contact: (Andrea Conrath).

EPA authorized the use of carfentrazone-ethyl on fruiting vegetables (except cucurbits) to control paraquat resistant nightshade, common groundsel, and morning glory; July 17, 2003 to May 31, 2004. Contact: (Andrew Ertman).

EPA authorized the use of fenbuconazole on blueberries to control leaf spot; September 15, 2003 to September 14, 2004. Contact: (Andrea Conrath).

Georgia

Department of Agriculture

Specific. EPA authorized the use of indoxacarb on collards to control diamondback moth; April 20, 2003 to April 20, 2004. Contact: (Barbara Madden).

Hawaii

Department of Agriculture

Specific. EPA authorized the use of hydramethylnon on pineapple to control big-headed and Argentine ants; June 6, 2003 to June 24, 2004. Contact: (Libby Pemberton).

Idaho

Department of Agriculture

Crisis. On April 15, 2003, for the use of thiamethoxam on succulent and dry bean seed to control leaf hoppers. This program is expected to end on May 15, 2003. Contact: (Andrew Ertman).

On June 6, 2003, for the use of zinc phosphide on barley, wheat, potatoes, and sugarbeets to control meadow voles and field mice. This program is expected to end on October 1, 2003. Contact: (Libby Pemberton).

On June 10, 2003, for the use of diflubenzuron on alfalfa to control grasshoppers and crickets. This program ended on October 31, 2003. Contact: (Andrea Conrath).

On June 13, 2003, for the use of diflubenzuron on wheat and barley to control grasshoppers. This program ended on June 27, 2003. Contact: (Andrea Conrath).

Specific. EPA authorized the use of lambda-cyhalothrin on barley to control the Russian wheat aphid, and cereal leaf beetle; April 4, 2003 to July 30, 2003. Contact: (Andrew Ertman).

EPA authorized the use of myclobutanil on hops to control powdery mildew; May 1, 2003 to September, 2003. Contact: (Barbara Madden).

EPA authorized the use of cymoxanil on hops to control downy mildew; May 2, 2003 to September 15, 2003. Contact: (Libby Pemberton).

EPA authorized the use of sulfentrazone on chickpeas to control Russian thistle; May 13, 2003 to June 20, 2003. Contact: (Andrew Ertman).

EPA authorized the use of sulfentrazone on potatoes to control ALS-inhibitor and triazine resistant kochia, common lambsquarters and pigweed; May 16, 2003 to June 15, 2003. Contact: (Andrew Ertman).

EPA authorized the use of thiabendazole on lentils to control ascochyta blight; May 19, 2003 to June 1, 2003. Contact: (Andrea Conrath).

EPA authorized the use of fluroxypyr on field corn and sweet corn to control volunteer potatoes; May 20, 2003 to August 1, 2003. Contact: (Andrew Ertman).

EPA authorized the use of zinc phosphide on alfalfa to control meadow voles and field mice; May 23, 2003 to May 23, 2004. Contact: (Libby Pemberton).

EPA authorized the use of fenpyroximate on hops to control spider mites; May 27, 2003 to September 15, 2003. Contact: (Andrea Conrath).

EPA authorized the use of quinoxyfen on hops to control powdery mildew; July 1, 2003 to September 15, 2003. This request was granted because the Agency has determined that the onset of the powdery mildew pest problem has created an urgent and non-routine situation which will result in a significant economic losses for hops growers. Contact: (Barbara Madden).

EPA authorized the use of zinc phosphide on potatoes, sugarbeets, wheat, and barley to control meadow voles and field mice; July 29, 2003 to October 1, 2003. Contact: (Libby Pemberton).

EPA authorized the use of myclobutanil on sugarbeets to control powdery mildew; July 31, 2003 to October 15, 2003. Contact: (Stacey Groce).

EPA authorized the use of flufenacet on wheat to control grass weeds; September 1, 2003 to June 30, 2004. Contact: (Andrew Ertman).

EPA authorized the use of flufenacet on triticale to control grass weeds; September 1, 2003 to June 30, 2004. Contact: (Andrew Ertman).

Illinois

Department of Agriculture

Specific. EPA authorized the use of sulfentrazone on horseradish to control broad leaf weeds; April 15, 2003 to July 15, 2003. Contact: (Andrew Ertman).

EPA authorized the use of fomesafen on snap beans to control broad leaf weeds; May 9, 2003 to August 31, 2003. Contact: (Andrea Conrath).

EPA authorized the use of thymol and eucalyptus oil on beehives to control varroa mites; August 27, 2003 to December 31, 2003. Contact: (Stacey Groce).

Indiana

Office of Indiana State Chemist

Specific. EPA authorized the use of fenbuconazole on blueberries to control mummy berry disease; April 24, 2003 to July 31, 2003. Contact: (Andrea Conrath).

EPA authorized the use of thiophanate methyl on blueberries to control various fungal diseases; May 5, 2003 to September 30, 2003. Contact: (Andrea Conrath).

EPA authorized the use of fomesafen on snap beans to control broad leaf weeds; May 9, 2003 to September 1, 2003. Contact: (Andrea Conrath).

EPA authorized the use of thymol and eucalyptus oil in beehives to control varroa mites; May 23, 2003 to December 31, 2003. Contact: (Barbara Madden).

Iowa

Department of Agriculture and Land Stewardship

Specific. EPA authorized the use of thymol and eucalyptus oil on beehives to control varroa mites; August 27, 2003 to December 31, 2003. Contact: (Stacey Groce).

Kansas

Department of Agriculture

Crisis. On June 11, 2003, for the use of fluroxypyr on grain sorghum to control acetolactate synthase and triazine resistant kochia. This program ended on July 30, 2003. Contact: (Libby Pemberton).

Specific. EPA authorized the use of fluroxypyr on grain sorghum to control acetolactate synthase and triazine resistant kochia; June 19, 2003 to July 30, 2003. Contact: (Libby Pemberton).

Louisiana

Department of Agriculture and Forestry

Crisis. On June 19, 2003, for the use of flumioxazin on sweet potatoes to control weeds. This program ended on July 15, 2003. Contact: (Libby Pemberton).

Denial. On August 26, 2003 EPA denied the use of flumioxazin on cotton to control broad leaf weeds. This request was denied because the criteria for an emergency situation were not met. Contact: (Libby Pemberton).

Specific. EPA authorized the use of s-metolachlor on sweet potatoes to control sedge weeds; May 1, 2003 to July 15, 2003. Contact: (Andrew Ertman).

EPA authorized the use of bifenthrin on sweet potatoes to control soil beetles, and sweet potato weevil; May 19, 2003 to November 30, 2003. Contact: (Andrea Conrath).

EPA authorized the use of methoxyfenozide on soybeans to control saltmarsh caterpillar, soybean loopers, and armyworms; May 30, 2003 to September 30, 2003. Contact: (Barbara Madden).

EPA authorized the use of tebufenozide on sweet potatoes to control armyworms; June 19, 2003 to October 31, 2003. Contact: (Andrew Ertman).

Maine

Department of Agriculture, Food, and Rural Resources

Specific. EPA authorized the use of thymol and eucalyptus oil in beehives to control varroa mites; May 23, 2003 to December 31, 2003. This request was granted because not only will beekeepers be adversely impacted if varroa mites are not adequately controlled but that the impact on much of agriculture in the United States could be dire. Over 150 crops have been identified that require bees for pollination. Contact: (Barbara Madden).

Maryland

Department of Agriculture

Specific. EPA authorized the use of terbacil on watermelons to control annual broad leaf weeds; April 29, 2003 to June 15, 2003. Contact: (Barbara Madden).

EPA authorized the use of fomesafen on snap beans to control broad leaf weeds; May 9, 2003 to September 15, 2003. Contact: (Andrea Conrath).

Massachusetts

Massachusetts Department of Food and Agriculture

Specific. EPA authorized the use of fenbuconazole on blueberries to control mummy berry disease; April 24, 2003 to June 30, 2003. Contact: (Andrea Conrath).

EPA authorized the use of indoxacarb on cranberries to control weevils; May 9, 2003 to September 30, 2003. Contact: (Andrea Conrath).

EPA authorized the use of azoxystrobin on tobacco to control blue mold; May 27, 2003 to December 31, 2003. Contact: (Libby Pemberton).

EPA authorized the use of thymol and eucalyptus oil on beehives to control varroa mites; August 27, 2003 to December 31, 2003. Contact: (Stacey Groce).

Michigan

Michigan Department of Agriculture

Crisis. On April 30, 2003, for the use of oxytetracycline on apples to control fire blight. This program ended on June 30, 2003. Contact: (Andrea Conrath).

Specific. EPA authorized the use of mancozeb on ginseng to control alternaria leaf and stem blight and phytophthora leaf blight; April 1, 2003 to October 15, 2003. Contact: (Libby Pemberton).

EPA authorized the use of fenbuconazole on blueberries to control mummy berry disease; April 24, 2003 to September 1, 2003. Contact: (Andrea Conrath).

EPA authorized the use of dimethenamid-p on dry bulb onions grown on muck soils to control yellow nutsedge; May 1, 2003 to July 30, 2003. Contact: (Barbara Madden).

EPA authorized the use of thiophanate methyl on blueberries to control various fungal diseases; May 5, 2003 to September 30, 2003. Contact: (Andrea Conrath).

EPA authorized the use of tebuconazole on wheat to control fusarium head blight; May 6, 2003 to June 15, 2003. Contact: (Libby Pemberton).

EPA authorized the use of fomesafen on snap beans to control broad leaf weeds; May 9, 2003 to August 30, 2003. Contact: (Andrea Conrath).

EPA authorized the use of fomesafen on dry beans to control broad leaf weeds; May 9, 2003 to August 15, 2003. Contact: (Andrea Conrath).

EPA authorized the use of tetraconazole on sugarbeets to control cercospora; June 6, 2003 to September 30, 2003. Contact: (Andrea Conrath).

EPA authorized the use of imidacloprid on blueberries to control Japanese beetle grubs and adults; June 15, 2003 to September 30, 2003. Contact: (Andrew Ertman).

EPA authorized the use of sulfentrazone on strawberries to control broad leaf weeds; June 25, 2003 to December 15, 2003. Contact: (Andrew Ertman).

EPA authorized the use of thymol and eucalyptus oil on beehives to control varroa mites; August 27, 2003 to December 31, 2003. Contact: (Stacey Groce).

Minnesota

Department of Agriculture

Crisis. On August 7, 2003, for the use of propiconazole on drybeans to control rust. This program ended on August 21, 2003. Contact: (Libby Pemberton).

Denial. On June 13, 2003 EPA denied the use of sulfentrazone on potatoes to control nightshade. This request was denied because yield losses were not supported by the submitted data. Contact: (Andrew Ertman).

Specific. EPA authorized the use of tetraconazole on sugarbeets to control cercospora; April 28, 2003 to September 30, 2003. Contact: (Andrea Conrath).

EPA authorized the use of 2,4-D on wild rice to control common water plantain; May 1, 2003 to July 31, 2003. Contact: (Andrew Ertman).

EPA authorized the use of tebuconazole on wheat and barley to control fusarium headblight; May 7, 2003 to September 1 2003. Contact: (Libby Pemberton).

EPA authorized the use of fomesafen on dry beans to control broad leaf weeds; May 9, 2003 to August 15, 2003. Contact: (Andrea Conrath).

EPA authorized the use of thymol and eucalyptus oil in beehives to control varroa mites; May 23, 2003 to December 31, 2003. Contact: (Barbara Madden).

Mississippi

Department of Agriculture and Commerce

Denial. On August 26, 2003 EPA denied the use of flumioxazin on cotton to control broad leaf weeds. This request was denied because the criteria for an emergency situation were not met. Contact: (Libby Pemberton).

Specific. EPA authorized the use of diuron on catfish to control algae; April 20, 2003 to November 30, 2003. Contact: (Libby Pemberton).

EPA authorized the use of s-metolachlor on sweet potatoes to control sedge weeds; May 5, 2003 to July 15, 2003. Contact: (Andrew Ertman).

EPA authorized the use of methoxyfenozide on soybeans to control saltmarsh caterpillar, soybean loopers, and armyworms; May 15, 2003 to September 30, 2003. Contact: (Barbara Madden).

EPA authorized the use of bifenthrin on sweet potatoes to control soil beetles; May 19, 2003 to September 30, 2003. Contact: (Andrea Conrath).

EPA authorized the use of thymol and eucalyptus oil in beehives to control varroa mites; May 23, 2003 to December 31, 2003. Contact: (Barbara Madden).

EPA authorized the use of tebufenozide on sweet potatoes to control beet armyworms and fall armyworms; July 15, 2003 to October 15, 2003. Contact: (Barbara Madden).

Missouri

Department of Agriculture

Specific. EPA authorized the use of fomesafen on snapbeans to control broad leaf weeds; May 9, 2003 to September 10, 2003. Contact: (Andrea Conrath).

EPA authorized the use of thymol and eucalyptus oil on beehives to control varroa mites; August 27, 2003 to December 31, 2003. Contact: (Stacey Groce).

Montana

Department of Agriculture

Crisis. On May 21, 2003, for the use of lambda-cyhalothrin on barley to control cutworms and cereal leaf beetles. This program ended on July 30, 2003. Contact: (Andrew Ertman).

On June 12, 2003, for the use of diflubenzuron on wheat and barley to control grasshoppers. This program ended on July 15, 2003. Contact: (Andrea Conrath).

On June 17, 2003, for the use of tebuconazole on barley and wheat to control fusarium head blight. This program ended on July 20, 2003. Contact: (Libby Pemberton).

Specific. EPA authorized the use of tetraconazole on sugarbeets to control cercospora; April 28, 2003 to September 30, 2003. Contact: (Andrea Conrath).

EPA authorized the use of thiabendazole on lentils to control ascochyta blight; May 19, 2003 to June 1, 2003. Contact: (Andrea Conrath).

EPA authorized the use of lambda-cyhalothrin on barley to control the Russian wheat aphid, cereal leaf beetles, and cutworms; June 8, 2003 to July 30, 2003. Contact: (Andrew Ertman).

EPA authorized the use of azoxystrobin on safflower to control alternaria leaf spot; July 1, 2003 to August 15, 2003. Contact: (Libby Pemberton).

Nebraska

Department of Agriculture

Crisis. On June 17, 2003, for the use of fluroxypyr on grain sorghum to control acetolactate synthase and triazine resistant kochia. This program ended on July 15, 2003. Contact: (Libby Pemberton).

Specific. EPA authorized the use of tetraconazole on sugarbeets to control cercospora; April 28, 2003 to September 30, 2003. Contact: (Andrea Conrath).

EPA authorized the use of fomesafen on dry beans to control broad leaf weeds; May 9, 2003 to August 5, 2003. Contact: (Andrea Conrath).

EPA authorized the use of fluroxypyr on grain sorghum to control acetolactate synthase and triazine resistant kochia; June 19, 2003 to July 30, 2003. Contact: (Libby Pemberton).

EPA authorized the use of thymol and eucalyptus oil on beehives to control varroa mites; August 27, 2003 to December 31, 2003. Contact: (Stacey Groce).

Nevada

Department of Agriculture

Crisis. On June 6, 2003, for the use of bifenazate on timothy to control banks grass mite. This program ended on August 30, 2003. Contact: (Andrea Conrath).

On June 13, 2003, for the use of diflubenzuron on alfalfa to control grasshoppers and crickets. This program ended on October 31, 2003. Contact: (Andrea Conrath).

New Hampshire

Department of Agriculture

Specific. EPA authorized the use of propiconazole on blueberries to control mummy berry disease; May 16, 2003 to June 15, 2003. Contact: (Andrea Conrath).

New Jersey

Department of Environmental Protection

Crisis. On August 21, 2003, for the use of propamocarb hydrochloride on tomatoes to control late blight. This program ended October 3, 2003. Contact: (Liby Pemberton).

Public Health. EPA authorized the use of fipronil in a rodent bait box system to control immature blacklegged ticks which are vectors for lyme disease; May 24, 2003 to December 31, 2003. Lyme disease is caused by the bacterium, borrelia burgdorferi. These bacteria are transmitted to humans by the bite of infected deer ticks. Contact: (Barbara Madden).

Specific. EPA authorized the use of fenbuconazole on blueberries to control mummy berry disease; April 24, 2003 to June 30, 2003. Contact: (Andrea Conrath).

EPA authorized the use of thiophanate methyl on blueberries to control various fungal diseases; June 2, 2003 to July 31, 2003. Contact: (Andrea Conrath).

EPA authorized the use of thymol and eucalyptus oil in beehives to control varroa mites; June 17, 2003 to December 31, 2003. Contact: (Barbara Madden).

EPA authorized the use of thiophante methyl on tomatoes to control white mold (sclerotinia sclerotiorum); July 2, 2003 to July 31, 2003. Contact: (Andrea Conrath).

New Mexico

Department of Agriculture

Specific. EPA authorized the use of spinosad on onions to control thysanoptera feeding pests; July 3, 2003 to November 1, 2003. Contact: (Andrew Ertman).

EPA authorized the use of myclobutanil on peppers (bell and chile) to control powdery mildew; July 25, 2003 to October 15, 2003. Contact: (Stacey Groce).

EPA authorized the use of spinosad on alfalfa to control lepidopteran pests; August 1, 2003 to November 1, 2003. Contact: (Andrew Ertman).

New York

Department of Environmental Conservation

Public Health. EPA authorized the use of fipronil in a rodent bait box system to control immature blacklegged ticks which are vectors for lyme disease; May 9, 2003 to December 31, 2003. Lyme disease is caused by the bacterium, borrelia burgdorferi. These bacteria are transmitted to humans by the bite of infected deer ticks. Contact: (Barbara Madden).

Specific. EPA authorized the use of fenbuconazole on blueberries to control mummy berry disease; April 24, 2003 to June 30, 2003. Contact: (Andrea Conrath).

EPA authorized the use of dimethenamid on dry bulb onion to control yellow nutsedge; May 1, 2003 to July 30, 2003. Contact: (Barbara Madden).

EPA authorized the use of thiophanate methyl on blueberries to control various fungal diseases; May 5, 2003 to September 30, 2003. Contact: (Andrea Conrath).

EPA authorized the use of fomesafen on dry and snap beans to control broad leaf weeds; May 9, 2003 to August 30, 2003. Contact: (Andrea Conrath).

EPA authorized the use of desmedipham on red (table) beets to control several important broad leaf weeds, including hairy galinsoga, common ragweed, redroot pigweed, common lambsquarters, velvetleaf, nightshade spp., and wild mustard; May 15, 2003 to August 15, 2003. Contact: (Libby Pemberton).

EPA authorized the use of lambda-cyhalothrin on alfalfa/clover/grass mixed stands to control the potato leafhopper; June 1, 2003 to August 31, 2003. Contact: (Andrew Ertman).

North Carolina

Department of Agriculture

Specific. EPA authorized the use of thymol and eucalyptus oil in beehives to control varroa mites; June 25, 2003 to December 31, 2003. Contact: (Barbara Madden).

EPA authorized the use of s-metolachlor on sweet potatoes to control pigweed; July 2, 2003 to August 15, 2003. Contact: (Andrew Ertman).

EPA authorized the use of tebufenozide on sweet potatoes to control beet armyworms and fall armyworms; July 25, 2003 to December 31, 2003. Contact: (Andrew Ertman).

North Dakota

Department of Agriculture

Crisis. On May 29, 2003, for the use of zeta-cypermethrin on mustard to control crucifer flea beetles. This program ended on June 13, 2003. Contact: (Libby Pemberton).

On July 3, 2003, for the use of zeta-cypermethrin on flax to control grasshoppers. This program ended on September 30, 2003. Contact: (Libby Pemberton).

On August 7, 2003, for the use of propiconazole on dry beans to control rust. This program ended on August 22, 2003. Contact: (Libby Pemberton).

Denial. On June 13, 2003 EPA denied the use of sulfentrazone on potatoes to control nightshade. This request was denied because yield losses were not supported by the submitted data. Contact: (Andrew Ertman).

Specific. EPA authorized the use of thiabendazole on lentils as a seed treatment to control Ascochyta blight; April 8, 2003 to June 1, 2003. Contact: (Andrea Conrath).

EPA authorized the use of tetraconazole on sugarbeets to control cercospora; April 28, 2003 to September 30, 2003. Contact: (Andrea Conrath).

EPA authorized the use of tebuconazole on wheat and barley to control fusarium head blight; May 7, 2003 to September 1, 2003. Contact: (Libby Pemberton).

EPA authorized the use of fomesafen on dry beans to control broad leafweeds; May 9, 2003 to August 15, 2003. Contact: (Andrea Conrath).

EPA authorized the use of tebuconazole on sunflower to control rust; June 8, 2003 to September 5, 2003. Contact: (Andrea Conrath).

EPA authorized the use of azoxystrobin on safflower to control alternaria leaf spot; July 1, 2003 to August 15, 2003. Contact: (Libby Pemberton)

EPA authorized the use of sethoxydim on no till or reduced tillage safflower to control wild oats; June 21, 2003 to July 31, 2003. Contact: (Libby Pemberton).

EPA authorized the use of zeta-cypermethrin on flax to control grasshoppers; August 29, 2003 to September 30, 2003. Contact: (Libby Pemberton).

EPA authorized the use of thymol and eucalyptus oil on beehives to control varroa mites; August 27, 2003 to December 31, 2003. Contact: (Stacey Groce).

Ohio

Department of Agriculture

Crisis. On July 14, 2003, for the use of thiophanate methyl on fruiting vegetables to control sclerotinia. This program ended on September 30, 2003. Contact: (Andrea Conrath).

Specific. EPA authorized the use of sulfentrazone on strawberries to control common groundsel; June 20, 2003 to December 15, 2003. Contact: (Andrew Ertman).

EPA authorized the use of dimethenamid-p on dry bulb onions to control yellow nutsedge; June 25, 2003 to July 30, 2003. Contact: (Barbara Madden).

Oklahoma

Department of Agriculture

Crisis. On April 29, 2003, for the use of fomesafen on snap beans to control broad leaf weeds. This program ended on May 9, 2003. Contact: (Andrea Conrath).

Specific. EPA authorized the use of fomesafen on snap beans to control broad leaf weeds; May 9, 2003 to September 10, 2003. Contact: (Andrea Conrath).

EPA authorized the use of thymol and eucalyptus oil on beehives to control varroa mites; August 27, 2003 to December 31, 2003. Contact: (Stacey Groce).

Oregon

Department of Agriculture

Crisis. On April 2, 2003, for the use of oxytetracycline on apples to control fire blight. This program ended on August 1, 2003. Contact: (Andrea Conrath).

Specific. EPA authorized the use of sulfentrazone on strawberries to control broad leaf weeds; April 1, 2003 to February 28, 2004. Contact: (Andrew Ertman).

EPA authorized the use of bifenthrin on orchardgrass grown for seed to control the orchardgrass billbug; April 4, 2003 to November 15, 2003. Contact: (Andrea Conrath).

EPA authorized the use of thiabendazole on lentils as a seed treatment to control ascochyta blight; April 8, 2003 to June 1, 2003. Contact: (Andrea Conrath).

EPA authorized the use of triazamate on Christmas trees to control root aphids; April 15, 2003 to October 31, 2003. Contact: (Barbara Madden).

EPA authorized the use of ethoprop on baby hops to control garden symphylan; April 15, 2003 to May 31, 2003. Contact: (Barbara Madden).

EPA authorized the use of myclobutanil on hops to control powdery mildew; May 1, 2003 to September 2003. Contact: (Barbara Madden).

EPA authorized the use of cymoxanil on hops to control downy mildew; May 2, 2003 to September 15, 2003. Contact: (Libby Pemberton).

EPA authorized the use of myclobutanil on hops to control powdery mildew; May 1, 2003 to September 2003. Contact: (Barbara Madden).

EPA authorized the use of two unregistered pheromones, (Z,E)-3,13-octadecadienyl and (Z,Z)-3,13-octadecadienyl on hybrid poplars grown for pulp and saw timber to control western poplar clearwing moths (WPCM); May 27, 2003 to October 1, 2003. This request was granted because the situation is urgent and non-routine based on the sudden population explosion of the WPCM and the apparent change in the habitat preferences for young healthy trees. Contact: (Barbara Madden).

EPA authorized the use of quinoxyfen on hops to control powdery mildew; June 15, 2003 to September 15, 2003. This request was granted because the Agency has determined that the onset of the powdery mildew pest problem has created an urgent and non-routine situation which will result in a significant economic losses for hops growers. Contact: (Barbara Madden).

EPA authorized the use of myclobutanil on sugarbeets to control powdery mildew; July 31, 2003 to October 15, 2003. Contact: (Stacey Groce).

EPA authorized the use of ethoprop on baby mint to control garden symphylans; August 1, 2003 to September 15, 2003. Contact: (Libby Pemberton).

EPA authorized the use of flufenacet on wheat to control grass weeds; September 1, 2003 to June 30, 2004. Contact: (Andrew Ertman).

EPA authorized the use of flufenacet on triticale to control grass weeds; September 1, 2003 to June 30, 2004. Contact: (Andrew Ertman).

EPA authorized the use of propiconazole on filberts to control eastern filbert blight; February 15, 2003 to May 30, 2003. Contact: (Dan Rosenblatt).

Pennsylvania

Department of Agriculture

Specific. EPA authorized the use of imidacloprid on stone fruit to control green peach aphid; April 26, 2003 to October 15, 2003. Contact: (Andrew Ertman).

EPA authorized the use of thiophanate methyl on blueberries to control various fungal diseases; May 5, 2003 to September 30, 2003. Contact: (Andrea Conrath).

EPA authorized the use of thymol and eucalyptus oil on beehives to control varroa mites; August 19, 2003 to December 31, 2003. Contact: (Stacey Groce).

Rhode Island

Department of Environmental Management

Specific. EPA authorized the use of fenbuconazole on blueberries to control mummy berry disease; April 24, 2003 to June 30, 2003. Contact: (Andrea Conrath).

South Carolina

Clemson University

Specific. EPA authorized the use of thymol and eucalyptus oil in beehives to control varroa mites; May 23, 2003 to December 31, 2003. This request was granted because not only will beekeepers be adversely impacted if varroa mites are not adequately controlled but that the impact on much of agriculture in the United States could be dire. Over 150 crops have been identified that require bees for pollination. Contact: (Barbara Madden).

South Dakota

Department of Agriculture

Specific. EPA authorized the use of sulfentrazone on sunflowers to control kochia; April 1, 2003 to June 30, 2003. Contact: (Andrew Ertman).

EPA authorized the use of tebuconazole on wheat and barley to control fusarium head blight; June 1, 2003 to August 31, 2003. Contact: (Libby Pemberton).

EPA authorized the use of sulfentrazone on flax to control kochia and ALS-resistant kochia; May 16, 2003 to June 30, 2003. Contact: (Andrew Ertman).

Tennessee

Department of Agriculture

Specific. EPA authorized the use of sulfentrazone on succulent beans to control hophornbeam copperleaf; May 15, 2003 to September 30, 2003. Contact: (Andrew Ertman).

Texas

Department of Agriculture

Crisis. On July 16, 2003, for the use of fluroxypyr on grain sorghum to control kochia and other broad leaf weed species. This program ended on July 31, 2003. Contact: (Libby Pemberton).

Specific. EPA authorized the use of spinosad on pastureland and rangeland to control armyworms; May 22, 2003 to September 1, 2003. Contact: (Andrew Ertman).

EPA authorized the use of spinosad on alfalfa to control lepidopteran pests; August 1, 2003 to November 1, 2003. Contact: (Andrew Ertman).

EPA authorized the use of fenbuconazole on grapefruit to control greasy spot; August 20, 2003 to August 20, 2004. Contact: (Dan Rosenblatt).

Utah

Department of Agriculture

Specific. EPA authorized the use of diflubenzuron on alfalfa to control the mormon cricket and various grasshopper species; April 11, 2003 to October 31, 2003. Contact: (Andrea Conrath).

EPA authorized the use of thymol and eucalyptus oil in beehives to control varroa mites; May 23, 2003 to December 31, 2003. Contact: (Barbara Madden).

Vermont

Department of Agriculture

Specific. EPA authorized the use of thymol and eucalyptus oil on beehives to control varroa mites; September 9, 2003 to December 31, 2003. Contact: (Stacey Groce).

Virginia

Department of Agriculture and Consumer Services

Specific. EPA authorized the use of terbacil on watermelons to control annual broad leaf weeds; April 1, 2003 to July 10, 2003. Contact: (Barbara Madden).

EPA authorized the use of imidacloprid on stone fruit to control aphids; April 26, 2003 to October 1, 2003. Contact: (Andrew Ertman).

EPA authorized the use of fomesafen on snap beans to control broad leaf weeds; May 9, 2003 to September 20, 2003. Contact: (Andrea Conrath).

EPA authorized the use of thiophanate methyl on tomatoes to control white mold (sclerotinia sclerotiorum); July 2, 2003 to September 30, 2003. Contact: (Andrea Conrath).

Washington

Department of Agriculture

Crisis. On April 2, 2003, for the use of oxytetracycline on apples to control fire blight. This program ended on August 1, 2003. Contact: (Andrea Conrath).

On April 16, 2003, for the use of thiamethoxam on succulent and dry bean seed to control leaf hoppers. This program is expected to end on May 15, 2003. Contact: (Andrew Ertman).

On June 7, 2003, for the use of diflubenzuron on wheat and barley to control grasshoppers. This program ended on June 21, 2003. Contact: (Andrea Conrath).

Specific. EPA authorized the use of triazamate on Christmas trees to control root aphids; April 15, 2003 to October 31, 2003. Contact: (Barbara Madden).

EPA authorized the use of thiabendazole on lentils as a seed treatment to control ascochyta blight; April 8, 2003 to June 1, 2003. Contact: (Andrea Conrath).

EPA authorized the use of myclobutanil on hops to control powdery mildew; May 1, 2003 to September 2003. Contact: (Barbara Madden).

EPA authorized the use of sulfentrazone on chickpeas to control Russian thistle; May 13, 2003 to June 20, 2003. Contact: (Andrew Ertman).

EPA authorized the use of two unregistered pheromones, (Z,E)-3,13-octadecadienyl and (Z,Z)-3,13-octadecadienyl on hybrid poplars grown for pulp and saw timber to control WPCM; May 27, 2003 to October 1, 2003. This request was granted because the situation is urgent and non-routine based on the sudden population explosion of the WPCM and the apparent change in the habitat preferences for young healthy trees. Contact: (Barbara Madden).

EPA authorized the use of fenpyroximate on hops to control spider mites; May 27, 2003 to September 15, 2003. Contact: (Andrea Conrath).

EPA authorized the use of quinoxyfen on hops to control powdery mildew; July 1, 2003 to September 15, 2003. This request was granted because the Agency has determined that the onset of the powdery mildew pest problem has created an urgent and non-routine situation which will result in a significant economic losses for hops growers. Contact: (Barbara Madden).

EPA authorized the use of mancozeb on ginseng to control alternaria leaf and stem blight and phytophthora leaf blight; July 29, 2003 to August 15, 2003. Contact: (Libby Pemberton).

EPA authorized the use of zinc phosphide on alfalfa/clover/timothy to control vole complex; August 5, 2003 to May 1, 2004. Contact: (Libby Pemberton).

EPA authorized the use of flufenacet on wheat to control grass weeds; September 1, 2003 to June 30, 2004. Contact: (Andrew Ertman).

EPA authorized the use of flufenacet on triticale to control grass weeds; September 1, 2003 to June 30, 2004. Contact: (Andrew Ertman).

West Virginia

Department of Agriculture

Specific. EPA authorized the use of imidacloprid on peaches and nectarines to control aphids; April 2, 2003 to November 30, 2003. Contact: (Andrew Ertman).

Wisconsin

Department of Agriculture, Trade, and Consumer Protection

Denial. On June 13, 2003, EPA denied the use of sulfentrazone on potatoes to control nightshade. This request was denied because yield losses were not supported by the submitted data. Contact: (Andrew Ertman).

Specific. EPA authorized the use of propiconazole on cranberry to control cottonball disease; April 15, 2003 to July 31, 2003. Contact: (Barbara Madden).

EPA authorized the use of thymol and eucalyptus oil in beehives to control varroa mites; June 17, 2003 to December 31, 2003. Contact: (Barbara Madden).

Wyoming

Department of Agriculture

Specific. EPA authorized the use of lambda-cyhalothrin on barley to control the Russian wheat aphid; April 10, 2003 to July 31, 2003. Contact: (Andrew Ertman).

EPA authorized the use of tetraconazole on sugarbeets to control cercospora; April 28, 2003 to September 30, 2003. Contact: (Andrea Conrath).

B. Federal Departments and Agencies

Environmental Protection Agency

Crisis. On June 13, 2003, for the use of hydrogen peroxide for decontamination of interior spaces and personal and office items on which bacillus anthracis may be present at the U.S. Department of State SA-32 Mail and Pouch Facility. This program is expected to end on June 28, 2003. Contact: (Barbara Madden).

List of Subjects

Environmental protection, Pesticides and pest.

Dated: November 18, 2003.
Peter Caulkins,
Acting Director, Registration Division, Office of Pesticide Programs.

[FR Doc. 03-29321 Filed 11-25-03; 8:45 am]

BILLING CODE 6560-50-S